FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201208-002.

Agreement Name: Amended and Restated Marine Terminal Services Agreement Port of Houston Authority and NYK Line (North America) Inc.

Parties: Nippon Yusen Kaisha; Ocean Network Express Pte. Ltd.; and Port of Houston Authority.

Filing Party: Chasless Yancy, Port of Houston Authority.

Synopsis: The amendment assigns the MTSA such that ONE will assume all of NYK's rights, title, obligations, and liabilities under the MTSA, effective as of the date of the transfer of such entities' container shipping divisions to ONE.

Proposed Effective Date: 9/20/2018.

Location: https://www2.fmc.gov/FMC.Agreements.Web/Public/AgreementHistory/16293.

Agreement No.: 011730-008.

Agreement Name: GWF/Dole Space Charter and Sailing Agreement.

Parties: Dole Ocean Cargo Express, LLC; Great White Fleet Corp.; and Great White Fleet Liner Services, Ltd.

Filing Party: Wayne Rohde; Cozen O'Connor.

Synopsis: The amendment removes Dole Ocean Cargo Express, Inc. as a party to the Agreement and replaces it with Dole Ocean Cargo Express, LLC.

Proposed Effective Date: 11/10/2018.

Location: https://www2.fmc.gov/FMC.Agreements.Web/Public/AgreementHistory/698.

Dated: September 27, 2018.
Rachel Dickon,
Secretary.

[FR Doc. 2018-21407 Filed 10-1-18; 8:45 am]

BILLING CODE 6731-AA-P